DEPARTMENT OF DEFENSE

Department of the Navy

[Docket ID: USN-2025-HQ-0137]

Proposed Collection; Comment Request

AGENCY: Department of the Navy, Department of Defense (DoD).

ACTION: 60-Day information collection notice.

SUMMARY: In compliance with the Paperwork Reduction Act of 1995, the United States Marine Corps Manpower and Reserve Affairs announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 6, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24 Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to AR Division, Headquarters Marine Corps 3000 Marine Corps, Pentagon Rm 2B253, Mark Kazzi, mark.kazzi@usmc.mil, (571) 256-8883.

SUPPLEMENTARY INFORMATION:

Title; Associated Form; and OMB Number: USMC Dependency Statement Child Born Out of Wedlock Under Age 21, NAVMC 1750-13; OMB Control Number 0712-0010.

Needs and Uses: The information collected will be used to support Installation/Command level and MFP-1 dependency determinations and basic allowance housing (BAH) entitlement decisions for children under the age of 21 born out of wedlock to non-service member guardians not residing in the service member's household. Respondents are made aware of this collection through MCO 1751.3 Ch1 and their Installation Personnel Administration Center (IPAC). The respondents can obtain a copy of the Navy/Marine Corps (NAVMC) 1750/13 through the NAVMC forms website (https://forms.documentservices.dla.mil/order/) or from their IPAC via email. IPAC contact information for respondents to seek assistance with obtaining, completing, or submitting the NAVMC 1750/13 is outlined in their IPAC's Standard Operating Procedures (SOP). A sample of the IPAC SOP is attached to this package.

The service member requesting the BAH entitlement completes sections 1 and 2 on the digitally fillable NAVMC 1750/13 and signs the form. The non-service member guardian of the claimed dependent completes sections 3-12 on the NAVMC 1750/13, prints the document, signs in the presence of a Notary Public, and has the form notarized to officially confirm their responses. The minors themselves are not authorized respondents. Respondents submit their completed and notarized NAVMC 1750/13, along with any appropriate supporting documentation related to their individual responses, via email or in person to their IPAC personnel officer as directed by their IPAC's SOP. Cases are typically adjudicated by the IPAC personnel officer at the Installation/Command level and the approval decision for BAH entitlement is communicated to the respondent telephonically. The IPAC personnel officer elevates cases that can't be resolved at the Installation/Command level to MFP-1 at mfp1@usmc.mil. MFP-1 will then make a final determination based on the provided documentation and reply to the IPAC personnel officer, who telephonically notifies the respondent of the result of the dependency determination/BAH entitlement decision.

Affected Public: Individuals or households.

Annual Burden Hours: 25.

Number of Respondents: 20.

Responses per Respondent: 1.

Annual Responses: 20.

Average Burden per Response: 75 minutes.

Frequency: On occasion.

The NAVMC Form 1750/13, “USMC Dependency Statement Child Born Out of Wedlock Under Age 21” is needed to assist USMC Installation command representatives and the Marine and Family Programs Division, Defense Enrollment Eligibility Reporting System/Dependency Determination Section (MFP-1) in properly making informed BAH entitlement determinations for claimed children under the age of 21 born out of wedlock to non-service member partners and who do not reside within the household of the service member. The collection provides formal documentation and respondent attestation of overall financial support case facts, which is a particularly critical piece of documentation in cases where the legitimacy of primary dependency status or service member BAH entitlement claim is deemed questionable to the USMC.

The NAVMC 1750/13 is distributed and collected via email, and respondents' complete sections 1-12 electronically on the fillable PDF. The collection cannot be conducted 100% electronically, as signatures required in section 13 must be done on a printed hard copy with a Notary Public present to certify the legitimacy of the provided information.

Dated: July 31, 2025.
Stephanie J. Bost,
Alternate OSD Federal Register Liaison Officer, Department of Defense.

[FR Doc. 2025-14762 Filed 8-4-25; 8:45 am]

BILLING CODE 6001-FR-P